Proclamation 10626 of September 15, 2023

National Farm Safety and Health Week, 2023

By the President of the United States of America

A Proclamation

America's farmers, farmworkers, and ranchers are the backbone of our Nation. They feed our families, power much of our economy, and help America lead the world. We owe them the dignity and certainty of knowing they are safe on the job. During National Farm Safety and Health Week, we renew our Nation's commitment to protecting the well-being of everyone who works in agriculture.

The prosperity that American farms provide our Nation can come with great personal risk. Agriculture has long been one of our most dangerous industries, with nearly six times as many fatalities as other industries, often due to tractor rollovers and road accidents while moving equipment from farm to field. Heavy labor, unsafe pesticides, extreme heat and weather, volatile markets, and other uncertainties can cause stress and injury. At the same time, nearly 200 rural hospitals have closed since 2005, making it harder to find emergency treatment and health care in agricultural areas.

When I ran for office, I promised to be the most pro-worker President in history and to get rural communities the resources they need to keep everyone healthy and safe. My Administration has fought to keep workers safe on the job—including issuing the first-ever Heat Hazard Alert, ramping up enforcement of heat-safety violations, increasing inspections in high-risk industries like agriculture, and working toward a national standard for workplace heat-safety rules. The Department of Agriculture is investing $500 million in American Rescue Plan funds in rural health care services so more Americans can get needed care closer to home. The Bipartisan Infrastructure Law is investing $65 billion in broadband, boosting access to remote telehealth services. The Inflation Reduction Act is slashing health care coverage premiums and prescription drug prices for seniors. At the same time, we have proposed new rules to require health insurers to cover mental health care the way they would anything else, moving toward real mental health parity. We have opened 140 new Certified Community Behavioral Health Clinics and launched the nationwide Suicide and Crisis Lifeline (9-8-8) connecting those in crisis to trained counselors by phone, text, or chat.

Meanwhile, my Administration is also focused on growing the rural economy more broadly. We are getting States the funds they need to expand access to small and midsized meat and poultry processing so producers have a better shot at fair prices. We are harnessing the bioeconomy and creating new revenue streams for farmers by supporting new and innovative products, like plant-based packing materials and sustainable aviation fuels. Throughout, we are making sure small and midsized farmers and ranchers have a chance to succeed right where they are from so the wealth they generate stays in their communities and their children can keep farming, building a stronger rural economy long-term.

America's farms, farmworkers, and ranchers represent the best of our Nation. Working together, we can make sure they have all they need to live healthy and safe lives.

NOW, THEREFORE, I, JOSEPH R. BIDEN JR., President of the United States of America, by virtue of the authority vested in me by the Constitution and the laws of the United States, do hereby proclaim September 17 through September 23, 2023, as National Farm Safety and Health Week. I call upon the people of the United States—including America's farmers; ranchers; and agriculture-related institutions, organizations, and businesses—to reaffirm a dedication to farm safety and health. I also urge all Americans to express appreciation and gratitude to our farmers, farmworkers, and ranchers for their tireless service to our Nation.

IN WITNESS WHEREOF, I have hereunto set my hand this fifteenth day of September, in the year of our Lord two thousand twenty-three, and of the Independence of the United States of America the two hundred and forty-eighth.

[FR Doc. 2023-20605

Filed 9-20-23; 8:45 am]

Billing code 3395-F3-P